DEPARTMENT OF TRANSPORTATION

National Highway Traffic Safety Administration

[Docket No. NHTSA-99-6478; Notice 2]

Advanced Bus Industries, LLC; Grant of Application for Temporary Exemption From Federal Motor Vehicle Safety Standard No. 105

For the reasons given below, we are granting the application by Advanced Bus Industries, LLC, of Columbus, Ohio, (“ABI”) for a temporary exemption for its MSV small bus from the requirement of Motor Vehicle Safety Standard No. 105 Hydraulic and Electric Brake Systems that a service brake system be provided on all wheels. ABI applied for the exemption on the basis that it “is otherwise unable to sell a motor vehicle whose overall level of safety is equivalent to or exceeds the overall level of safety of nonexempted motor vehicles.” 49 CFR 555.6(d).

We published notice of receipt of the application on November 17, 1999 (64 FR 62740), and received no comments on it.

The discussion that follows is based on information contained in ABI's application.

ABI's Reasons Why it Needs a Temporary Exemption

Paragraph S5.1 of Standard No. 105 requires motor vehicles to which the standard applies to be equipped with a service brake system acting on all wheels. ABI applied on behalf of its “MSV Test and Development Vehicle,” a small bus with a GVWR of 13,500 pounds.

ABI described the configuration of the MSV by saying that the four-wheel independent-suspension support is augmented by a small-wheeled tag axle. The tag axle is located behind the two rear-independent suspension wheels. The four independent-suspension wheels are fitted with hydraulic-caliper disc brakes but the two small wheels of the tag axle are not fitted with brakes. ABI asked to be excused from providing brakes for the wheels of the tag axle.

The MSV was originally developed without the tag axle, but pre-production changes increased the gross weight on the two rear wheels beyond the rated load capacity of the rear tires. ABI has added a Dexter tag axle to support the additional weight.

The standard-equipment brakes operate with a low displacement of hydraulic fluid at a pressure of approximately 1,600 psi. The vehicle is equipped with an antilock braking system (ABS). However, “there is no commercially-available tag axle with a braking system that is compatible with the vehicle's main service brake system.” Absent an exemption, ABI will not be able to sell the production version of the MSV. While any exemption provided is in effect, ABI intends “to develop a new higher-capacity, rear wheel suspension system that will eliminate the need for the tag axle”, and does not anticipate selling more than 75 vehicles for any 12-month period that the exemption is in effect.

ABI's Reasons Why the Overall Level of Safety of the MSV Is at Least Equal to That of a Complying Motor Vehicle

Although the MSV does not contain any safety features other than those required by the Federal motor vehicle safety standards, ABI argued that it otherwise exceeds the requirements of Standard No. 105 “and easily complies with brake-in-turn (stability and control) standards expected to be proposed by NHTSA in the near future.”

The company has tested the MSV service brake system to the requirements of Standard No. 105, and enclosed a copy of the test report with its petition. The report stated that “even without brakes on the tag axle, the vehicle was still able to meet all of the performance requirements of FMVSS 105 by a significant margin.” (Test No. RAI-ABI-01, Radlinski & Associates, Inc., August 1999, p. 2). The report also concluded that the results demonstrated “that the tag axle, which only carries 1,500 lbs (11 percent of the total weight), does not really need brakes in order for the vehicle to provide safe stopping performance as defined by the requirements of the standard” (id., p. 2).

ABI's Reasons Why an Exemption Would Be Consistent With the Public Interest and Objectives of Motor Vehicle Safety

ABI argued that an exemption would be in the public interest and consistent with traffic safety objectives because granting the exemption “will permit public-transit use of the advanced features of the MSV bus while fulfilling the letter, and the intent, of the FMVSS standards.” These advanced features are “significantly improved ride and handling characteristics compared to existing small buses and the MSV's stainless steel frame and FRP body will be more durable than conventionally-constructed buses in this class.” In addition, the company argued that the test report shows that the braking performance, even without brakes on the tag axle, significantly exceeds the requirements of Standard No. 105.

Our Findings

ABI is presently unable to sell its MSV because the bus does not provide a service brake system acting on all wheels as required by S5.1 of Standard No. 105. Although the four principal wheels are part of the service brake system, the two smaller wheels of the bus's tag axle are not part of the overall service brake system. The lack of a service brake system on the tag axle wheels does not create a noncompliance with the stopping distance specifications of Standard No. 105. Indeed, the bus is designed to exceed these by, in its words, “a significant margin.” In this sense, the overall level of safety of the MSV may exceed that of a similar bus with a complying brake system.

Even though the anticipated production of the bus is small, the vehicles serve the public interest by providing mass transportation in the markets where they will be sold and operated.

Accordingly we find that, to require compliance would prevent ABI from selling a motor vehicle whose overall level of safety is equivalent to or exceeds the overall level of safety of nonexempted motor vehicles, and that a temporary exemption is in the public interest and consistent with the objectives of traffic safety. Accordingly, Advanced Bus Industries is hereby granted NHTSA Exemption No. 2000-1 from the requirement in S5.1 of 49 CFR 571.105 Standard No. 105, Hydraulic and electric brake systems, that its MSV bus be equipped with a service brake system on the two wheels of the bus's tag axle. The exemption shall expire January 1, 2002.

Authority: 49 U.S.C. 30113; delegation of authority at 49 CFR 1.50.

Issued on: February 2, 2000.
Rosalyn G. Millman,
Acting Administrator.

[FR Doc. 00-2719 Filed 2-7-00; 8:45 am]

BILLING CODE 4910-59-P